DEPARTMENT OF JUSTICE

Immigration and Naturalization Service

[INS No. 2005-99]

RIN 1115-AF54

INS Immigration User Fee Review

AGENCY: Immigration and Naturalization Service, Justice.

ACTION: Biennial notice of Immigration User Fee Account Status.

SUMMARY: The Attorney General is required to submit a report to the Congress concerning the status of the Immigration User Fee Account (IUFA), and to recommend any adjustment in the prescribed fee. The report is to be submitted to the Congress following a public notice with the opportunity for comment. This notice accordingly publishes the status of the IUFA as of September 30, 1999, and presents an opportunity for the public to comment and propose regulatory changes.

DATES: Written comments must be received on or before April 17, 2000.

ADDRESSES: Please submit written comments, in triplicate, to Director, Policy Directives and Instructions Branch, Immigration and Naturalization Service, Room 5307, 425 I Street NW., Washington, DC 20536-0002. To ensure proper handling, please reference INS no. 2005-99 on your correspondence.

FOR FURTHER INFORMATION CONTACT: Paul Schlesinger, Chief, Fee Policy and Rate Setting Branch, Office of Budget, Immigration and Naturalization Service, Room 6240, 425 I Street NW., Washington, DC 20536-0002, telephone (202) 616-2754.

SUPPLEMENTARY INFORMATION:

What Is the Immigration User Fee Account (IUFA)?

Section 286(d) of the Immigration and Nationality Act [Act], as amended, specifies that, as of December 1, 1986, the Attorney General shall collect a fee per individual for the immigration inspection of each passenger arriving at a Port-of-Entry in the United States aboard a commercial aircraft or commercial vessel, or for the pre-inspection of a passenger at a location outside the United States prior to such arrival. Passengers arriving from Canada, Mexico, the adjacent islands and territories, and possessions of the United States by means other than aircraft are exempt from the fee. Also exempt from the fee are persons who meet provisions delineated in 8 CFR 286.3. The 1994 Appropriations Act for the Department of Justice, Pub. L. 103-121, raised the IUFA fee from $5 to $6 per passenger inspected.

The fees deposited in the IUFA are used to reimburse any appropriation for expenses incurred in: (1) Providing inspection and pre-inspection services (including overtime) for commercial aircraft and sea vessels; (2) detaining and removing inadmissible aliens arriving on commercial aircraft and sea vessels; (3) providing removal and asylum proceedings at air and sea Ports-of-Entry for inadmissible aliens arriving on commercial aircraft or sea vessels; (4) funding the detention and deportation, removal and asylum costs for aliens seeking to enter the country illegally by avoiding inspection at air and sea Ports-of-Entry; (5) administering debt recovery; (6) establishing and operating a national collections office; (7) expanding, operating, and improving information systems for nonimmigrant control and debt collection; and (8) detecting fraudulent documents presented by passengers traveling into the United States.

What Congressional Reports Are Required by the Immigration and Nationality Act?

Section 286(h) of the Act requires the Attorney General to submit a biennial report to Congress concerning the status of the IUFA. This report assesses whether an adjustment in the prescribed inspection fee is required to ensure that receipts collected under the IUFA for the succeeding 2 years equal, as closely as possible, the cost of providing the services listed above. Before this report is submitted, the Attorney General must present a summary of the IUFA's status for review and public comment.

What is the Financial Status of the IUFA?

As of September 30, 1999, the status of the IUFA was as follows:

IUFA Financial Summary ($000)
| Fiscal year 1997 actual | Fiscal year 1998 actual | Fiscal year 1999 actual | Fiscal year 2000 estimate ** | Fiscal year 2001 estimate ***
Start of year balance | $84,158 | $96,540 | $73,016 | $57,839 | $4,889
Collections * | 367,665 | 379,480 | 422,634 | 428,050 | 596,186
Obligations | 361,686 | 411,700 | 454,144 | 487,000 | 529,103
Recovery of prior year obligations | 6,403 | 8,696 | 16,333 | 6,000 | 6,000
End of year balance | 96,540 | 73,016 | 57,839 | 4,889 | 77,972
* Includes passenger fees, inspector overtime billings, liquidated damages, and one-third of enforcement fines as prescribed by law.
** Assumes 6% increase in traffic and reprogramming of funds into the account.
*** Assumes $2 increase in the user fee, reprogramming of funds into the account, and elimination of the current cruise ship passenger exemption.

Collections: Collections totaled $367.7 million for FY 1997 and $379.5 million for FY 1998, marking a 3 percent increase for FY 1998 collections over FY 1997 collections. Collections for FY 1999 were $422.6 million, which is 11 percent higher than collections realized in FY 1998.

Obligations: The United States Government records orders for goods and/or services which require payment as “obligations.” More specifically, the Office of Management and Budget (OMB) Circular A-34, Instructions on Budget Execution, defines obligations as purchase orders placed, contracts awarded, and services received by a Federal agency which require it to make cash outlays during the same or future periods. Obligations incurred by the IUFA during FY 1998 totaled $411.7 million, representing a 14 percent increase over FY 1997. Obligations for FY 1999 were $454.1 million, a 10 percent increase over FY 1998 due in large part to a congressionally mandated transfer of $29.5 million of base funding from the Salaries and Expenses' Appropriation to the IUFA.

End-of-Year Balances: The lower FY 1999 End-of-Year balance compared to FY 1998 is because FY 1999 had a lower start of year balance.

Program Highlights: An important mission of the INS is to control the borders of the United States. The INS inspects persons seeking to enter the United States at air and sea Ports-of-Entry to determine admissibility. The following discussion presents major program highlights of the IUFA.

What Are the Major Programs Funded by the IUFA?

Inspections, the largest program, spent $288 million for FY 1999, which were approximately 63 percent of total IUFA resources. The function of this program is to enforce and administer immigration and nationality laws with respect to the inspection of all persons seeking admission into the United States at air and sea Ports-of-Entry. Applicants for admission are inspected to determine if they qualify for admission and, if so, under what conditions. This process is a cooperative partnership among the Department of State, U.S. Customs Service, the Department of Agriculture, and local port authorities. Determination of admissibility is based on the examination of the applicant, relevant documents, or prior information., Inadmissible aliens are denied entry. A total of 85 million passengers were inspected at air and sea Ports-of-Entry and pre-inspection sites during FY 1999.

Due to the increasing volume of passengers, the INS has dedicated itself to improving the efficiency and effectiveness of its inspections processes. Based on FY 1998 actuals, there were 3,081 permanent inspection positions located at 35 air and sea Ports-of-Entry and 15 pre-inspection sites. For FY 1999, Congress approved staffing plans for 3,181 permanent inspector positions.

Detention and Deportation, the second largest program, spent 71 million for FY 1999, representing approximately 16 percent of total IUFA resources. Functions of this program include detaining, removing, paroling, and deporting aliens. Aliens subject to inadmissibility proceedings who are likely to abscond, or whose freedom at-large could pose risk or danger to public safety and security, were detained for the equivalent of 371,600 detention days in FY 1998. A detention day represents one alien detained for 1 day. Two detention days represents two aliens detained for 1 day or one alien detained for 2 days.

The third largest program, Data and Communications, spent $46 million for FY 1999 and comprised approximately 10 percent of total IUFA resources. This program supports program initiatives through infrastructure enhancements, automation, and innovation. Infrastructure enhancements include deploying new computer equipment, developing interfaces among existing INS information systems, and developing and/or acquiring new management information systems.

What Innovations Are Being Undertaken by INS To Expedite Inspections?

One innovation being implemented in Data and Communications is the Advance Passenger Information System (APIS), which saves time in performing inspections by enlisting carriers to collect biographical information on passengers before departing the last airport prior to arrival in the United States. The collected information is then electronically transmitted to the INS and checked against criminal lookout databases before the carrier arrives at its intended port. Over 33 million passengers were processed using APIS during FY 1998.

Another innovation is the INS Passenger Accelerated Services System (INSPASS). This system expedites the inspection of frequent business travelers using biometrics information such as hand geometry. Passengers must insert their INSPASS card into a machine that compares data magnetically stored on the card to the biometrics information. Passenger information is checked against criminal lookout databases before an individual is authorized entry into the United States. In FY 1999, a total of seven sites were in operation and nearly 251,000 INSPASS inspections were performed.

Why Is INS Proposing a Fee Increase?

Most of the Account's revenue is generated from a $6 fee charged to each passenger arriving in the United States aboard a commercial aircraft or vessel from a foreign location. Cruise ship passengers, whose journeys originate in Canada, Mexico, or any territory or possession of the United States, or any adjacent island of the United States, are currently exempt from the charge. The fee was last increased in 1994 from $5 to $6 through the Department of Justice Appropriations Act (Pub. L. 103-121).

In accordance with OMB Circular A-25, fees must be reviewed biennially to ensure the full cost recovery of not only primary inspections, but also the costs of secondary inspections, detention, and deportation of inadmissible aliens. In March 1997, the INS performed an in-depth review of the IUFA fee. Based on assumptions through March 1997, the review recommended a $1 increase in the IUFA fee for FY 1999. This was prior to FY 1999 congressional action that transferred $29.5 million from Salaries and Expenses in user fee-related services to the IUFA. This transfer augmented the user fee base operation costs by the same amount, and with insufficient new revenue in FY 1999, the INS had to use the remaining carry-forward to support the base transfer and avoid a funding shortfall.

Because the INS anticipates that program costs will far exceed new revenues and that prior year carry-forward funds will be severely reduced by FY 2001, the President's FY 2001 budget includes language that would increase the current fee from $6 to $8, and eliminate the current cruise ship passenger exemption. If such increases are not enacted, the INS will either have to reduce services in FY 2001 or use funds from its general Salaries and Expenses Appropriations to make up the deficit of the expense of other INS activities. A reduction in services would almost certainly result in longer waits for persons seeking to enter the United States.

Pursuant to this notice, the public may provide any proposals to revise 8 CFR 286 on matters that may be changed by regulation, and may provide comments on the status of the IUFA before a report is submitted to the Congress.

Dated: October 20, 1999.
Doris Meissner,
Commissioner, Immigration and Naturalization Service.

[FR Doc. 00-3582 Filed 2-15-00; 8:45 am]

BILLING CODE 4410-10-M